DEPARTMENT OF COMMERCE

National Oceanic and Atmospheric Administration

RIN 0648-XA978

Southwest Fisheries Science Center; Public Meeting

AGENCY: National Marine Fisheries Service (NMFS), National Oceanic and Atmospheric Administration (NOAA), Commerce.

ACTION: Notice of public meeting.

SUMMARY: A methods review of the Collaborative Optically-assisted Acoustic Survey Technique (COAST) by the Center for Independent Experts (CIE) and the Pacific Fishery Management Council (PFMC) and will be held February 15-17, 2012, that is open to the public.

DATES: The methods review of the COAST process will be held beginning at 8:30 a.m., Wednesday, February 15, 2012, and end at 5:30 p.m. or as necessary to complete business for the day. The panel will reconvene on Thursday, February 16, 2012, and will continue through Friday, February 17, 2012, beginning at 8 a.m. and ending at 5:30 p.m. each day, or as necessary to complete business.

ADDRESSES: The COAST methods review will be held at the Southwest Fisheries Science Center; Southwest Fisheries Science Center, 3333 North Torrey Pines Court, La Jolla, CA 92037-1023; (858) 546-7000.

FOR FURTHER INFORMATION CONTACT: Mr. Dale Sweetnam, NMFS Southwest Fisheries Science Center; telephone: (858) 546-7170.

SUPPLEMENTARY INFORMATION: The COAST uses high-precision acoustic sampling to efficiently map the distributions of rockfishes on large scales and to direct the optical sampling. The COAST also uses accurate optical sampling to provide estimates of species composition and their length distributions. Thus, the COAST combines information from acoustic and optical sampling to obtain relatively precise and accurate estimates of the distributions and abundances of rockfishes, by species. The COAST was developed by the NOAA/NMFS Southwest Fisheries Science Center, Advanced Sampling Technology Program, and the Sportfishing Association of California. It may also have broad appeal to fisheries managers and researchers as a tool for ecosystem-based management as well as evaluating the performance of marine protected areas.

Special Accommodations

This meeting is physically accessible to people with disabilities. Requests for sign language interpretation or other auxiliary aids should be directed to Mr. Dale Sweetnam (858) 546-7170 at least five days prior to the meeting date.

Dated: January 31, 2012.
Steven Thur,
Acting Director, Office of Sustainable Fisheries, National Marine Fisheries Service.

[FR Doc. 2012-2491 Filed 2-2-12; 8:45 am]

BILLING CODE 3510-22-P